DEPARTMENT OF COMMERCE

National Oceanic and Atmospheric Administration

50 CFR Part 300

[Docket No. 000908255-0255-01 ;I.D. 080800C]

RIN 0648-AN73

International Fisheries; Pacific Tuna Fishery in the Eastern Pacific Ocean

AGENCY: National Marine Fisheries Service (NMFS), NOAA, Commerce.

ACTION: 2000 Quota and Associated Management Measures for Yellowfin Tuna.

SUMMARY: NMFS announces the year 2000 yellowfin tuna harvest limits and associated management measures for the purse seine and baitboat fisheries for yellowfin tuna in the eastern Pacific Ocean (EPO), consistent with recommendations made by the Inter-American Tropical Tuna Commission (IATTC) and approved by the Department of State under the terms of the Tuna Conventions Act. The intended effect of this action is to establish allowable harvest limits for the yellowfin tuna fishery.

DATES: Effective September 28, 2000 until December 31, 2000, unless attainment of the quota is reached earlier. If the quota is reached before December 31, 2000, NOAA will publish announcement of that date in the Federal Register.

ADDRESSES: Submit comments to Rebecca Lent, Regional Administrator, Southwest Region (Regional Administrator), NMFS, 501 W. Ocean Boulevard, Suite 4200, Long Beach, CA 90802-4213.

FOR FURTHER INFORMATION CONTACT: Svein Fougner, Sustainable Fisheries Division, Southwest Region, NMFS, 562-980-4040.

SUPPLEMENTARY INFORMATION: The U.S. is a member of the IATTC, which was established under the Convention for the Establishment of an Inter-American Tropical Tuna Commission signed in 1949. The IATTC was established to provide an international arrangement to ensure the effective international conservation and management of highly migratory species of fish in the convention area. The IATTC has maintained a scientific research and fishery monitoring program for many years and annually assesses the status of stocks of tuna and the fisheries to determine appropriate harvest limits or other measures to prevent overexploitation of the stocks and to promote viable fisheries. The area generally covered by the management measures recommended under the Convention is all waters of the EPO between 40° N. lat. and 40° S. lat. west to 150° W. long. Within the area covered by the Convention, the IATTC has designated a smaller Commission Yellowfin Regulatory Area (CYRA) in which the total catch of yellowfin tuna may be limited. The boundaries of the CYRA may be found at 50 CFR part 300, subpart C.

At its annual meeting in June 2000, the IATTC adopted a resolution dealing with yellowfin tuna conservation. This resolution set an overall harvest quota of 265,000 metric tons (mt) for yellowfin tuna taken by purse seine vessels in the CYRA), except that the purse seine and baitboat fisheries in the CYRA are to close December 1, 2000, even if the quota has not been reached. The IATTC also recommended that certain waters be closed to purse seine fishing when the overall catch of yellowfin tuna reaches 240,000 mt. This document confirms that the quotas have been approved by the Department of State. Under regulations promulgated in 1999 (64 FR 44428, August 16, 1999), the Southwest Regional Administrator is authorized to notify the U.S. tuna industry (industry) directly of any quotas and associated regulatory measures that have been recommended by the IATTC and approved by the Department of State. In a separate action, the Regional Administrator announced the 2000 yellowfin tuna quotas directly to the industry. In that action, the Regional Administrator advised the industry directly of the management measures contained in this Federal Register document. Those measures, which will be effective within the CYRA, are as follows:

1. When the yellowfin catch reaches 240,000 mt, U.S. purse seine and baitboat vessels will be prohibited from fishing within waters that are:

a. Bounded by the U.S.-Mexico boundary, 125° W. longitude, and 23° N. latitude; and

b. Bounded by the coast of South America, 85° W. longitude, and 5° N. and 5° S. latitudes.

2. When the yellowfin catch within the CYRA reaches 265,000 MT, or after 0001 hours December 2, 2000, whichever comes first, the following restrictions will apply in the CYRA:

a. Purse seine vessels with an observer aboard from the On-Board Observer Program established under the Agreement on the International Dolphin Conservation Program must refrain from fishing for yellowfin in the CYRA.

b. The landings of fish caught while fishing for other species of tunas in the CYRA after the date established for the CYRA closure by any individual purse seine vessel with an observer aboard may include a maximum of 15 percent yellowfin (relative to its total catch of all species of fish during those periods).

c. Vessels with an observer aboard that are at sea on December 31, 2000, will not be subject to the 15-percent maximum after that date during the remainder of that trip.

d. Purse seine vessels and baitboats without an observer aboard that are at sea on the closure date may continue to fish for yellowfin without restriction until they return to port for unloading.

e. Purse seine vessels and baitboats without an observer aboard that are not at sea on the closure date, but that depart from port to fish for tunas after that date, must refrain from fishing for yellowfin. The landings by vessels in this category, regardless of the date the trip is completed, may include a maximum of 15 percent yellowfin caught while fishing for other species of tunas.

For the reasons stated here and in accordance with the regulations at 50 CFR part 300, subpart C, NMFS herein announces that, after the dates which the Director of IATTC specifies and the Southwest Regional Administrator announces as the initial closure date and directed fishery closure date, no U.S. vessel may fish in the Convention Area unless it is in compliance with the above measures.

Classification

This action is authorized by the regulations implementing the Tuna Conventions Act, 50 CFR part 300, subpart C. The determination to take this action is based on the most recent data available. The aggregate data upon which the determination is based are available for public inspection at the Office of the Regional Administrator (see ADDRESSES) during business hours.

The Assistant Administrator for Fisheries, NOAA (AA) finds for good cause under 5 U.S.C. 553(b)(B) that providing prior notice and an opportunity for public comment on this action is unnecessary. The rule authorizing this action provides for quotas agreed to by the IATTC and approved by the Department of State to be effective upon direct notification of the U.S. tuna fishing industry. Providing prior notice and an opportunity for public comment would serve no useful purpose. The AA finds for good cause under 5 U.S.C. 553(d)(3) that a 30-day delay in effectiveness for this 2000 quota would be contrary to the public interest. Such a delay could prevent the quota from being in place before it is exceeded and the fisheries closed.

This action is exempt from review under Executive Order 12866.

Because prior notice and opportunity for public comment are not required for this rule by 5 U.S.C. 553, or any other law, the analytical requirements of the Regulatory Flexibility Act, 5 U.S.C., 601et seq., are inapplicable.

Authority: 16 U.S.C. 951-961 and 971et seq.

Dated: September 20, 2000.
William T. Hogarth,
Deputy Assistant Administrator for Fisheries, National Marine Fisheries Service.

[FR Doc. 00-24694 Filed 9-27-00; 8:45 am]

BILLING CODE: 3510-22-S